DEPARTMENT OF ENERGY

Federal Energy Regulatory Commission

Notice of FERC Staff Attendance at Midwest ISO Inaugural Annual Stakeholder Meeting, Midwest ISO Monthly Board Meeting and Midwest ISO Market Subcommittee Meetings

August 25, 2005.

The Federal Energy Regulatory Commission hereby gives notice that members of its staff may attend the following meetings regarding the Midwest Independent Transmission System Operator, Inc. (Midwest ISO):

• Inaugural Annual Stakeholder Meeting, September 14, 2005, 10 a.m.-4 p.m. (e.s.t.)

Sheraton Indianapolis Hotel & Suites, 8787 Keystone Crossing, Indianapolis, IN 46240.

• Midwest ISO Monthly Board Meeting, September 15, 2005, 8:30 a.m.-10:30 a.m. (e.s.t.)

Lakeside Conference Center, 630 West Carmel Drive, Carmel, IN 46032.

• Midwest ISO Market Subcommittee Meetings, August 30, 2005, 9 a.m.-5 p.m., and August 31, 2005, 8 a.m.-12 p.m. (e.s.t.); October 4, 2005, at a time to be determined; November 1, 2005, at a time to be determined; November 30, 2005, at a time to be determined.

Lakeside Conference Center, 630 West Carmel Drive, Carmel, IN 46032.

For further information regarding the times and agendas of the Market Subcommittee meetings, please see http://www.midwestiso.org/calendar/index.php.

The discussions at each of the meetings described above may address matters at issue in the following proceedings:

Docket No. ER02-2595, et al., Midwest Independent Transmission System Operator, Inc.

Docket No. ER04-375, Midwest Independent Transmission System Operator, Inc., et al.

Docket No. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-752, Midwest Independent Transmission System Operator, Inc. and PJM Interconnection, L.L.C.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

These meetings are open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E5-4756 Filed 8-30-05; 8:45 am]

BILLING CODE 6717-01-P